DEPARTMENT OF ENERGY

Federal Energy Regulatory Commission

[Project No. 12848-002; Project No. 14081-000]

Free Flow Power Corporation; Northland Power Mississippi River LLC; Notice of Competing Preliminary Permit Applications Accepted for Filing and Soliciting Comments, Motions To Intervene, and Competing Applications

Free Flow Power Corporation (Free Flow) and Northland Power Mississippi River LLC (Northland) filed preliminary permit applications, pursuant to section 4(f) of the Federal Power Act, proposing to study the feasibility of developing hydropower projects hydropower on the Mississippi River, near the town of New Orleans, in Orleans Parish, Louisiana. Both applications were filed electronically and given the filing date of February 1, 2011, at 8:30 AM. The sole purpose of a preliminary permit, if issued, is to grant the permit holder priority to file a license application during the permit term. A preliminary permit does not authorize the permit holder to perform any land-disturbing activities or otherwise enter upon lands or waters owned by others without the owners' express permission.

The proposed projects are described as follows:

Free Flow's hydrokinetic Project, Project No. 12848-002 would consist of: (1) Up to 2,250 SmartTurbine generating units installed in arrays on the bottom of the river; (2) the total capacity of the installation would be up to 90,000 kilowatts; (3) flexible cables would convey each arrays power to a metering station; and (4) a transmission line would interconnect with the power grid. The proposed project would have an average annual generation of 197,100,000 kilowatt-hours (kWh), which would be sold to a local utility.

Northland's hydrokinetic Project, Project No. 14081-000 would consist of: (1) Up to 50 TREK generating units installed in a matrix on the bottom of the river; (2) the total capacity of the installation would be up to 38,000 kilowatts; (3) shielded underwater cables would convey each matrix power to a substation; and (4) a transmission line would interconnect with the power grid. The proposed project would have an average annual generation of 329,000,000 kWh, which would be sold to a local utility.

Applicants Contact: For Free Flow: Ramya Swaminathan, Free Flow Power Corporation, 239 Causeway Street, Boston, MA 02114; phone (978) 283-2822. For Northland: Tim Richardson, 30 St. Clair Avenue West 17th Floor, Toronto, Ontario, Canada; phone (416) 820-9521.

FERC Contact: Michael Spencer, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text-only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-12848-002, or P-14081-000) in the docket number field to access the document. For assistance, contact FERC Online Support.

Dated: August 19, 2011.
Kimberly D. Bose,
Secretary.

[FR Doc. 2011-21824 Filed 8-25-11; 8:45 am]

BILLING CODE 6717-01-P